DEPARTMENT OF AGRICULTURE

Rural Utilities Service

Financing for Household Water Well Systems

AGENCY: Rural Utilities Service, USDA.

ACTION: Notice of inquiry; technical correction.

SUMMARY: The Water and Environmental Program within the Rural Utilities Service (RUS) published in the Federal Register on February 10, 2004, a notice of inquiry seeking written comments about the prospective grant program to an entity that will establish a lending program for the construction, refurbishing, and servicing of individually-owned household water well systems in rural areas that are or will be owned by the eligible individuals. Inadvertently the amount of funding available for fiscal year 2004 was incorrect.

DATES: Effective on February 19, 2004.

FOR FURTHER INFORMATION CONTACT: Gary Morgan, Assistant Administrator, Water and Environmental Programs, Rural Utilities Service, United States Department of Agriculture, 1400 Independence Avenue, SW., stop 1548 room 5145-S, Washington, DC 20250-1548. Phone: 202-690-2670. Fax: 202-720-0718. E-mail: gary.morgan@usda.gov.

SUPPLEMENTARY INFORMATION: The Water and Environmental Program within the Rural Utilities Service (RUS) published a document in the Federal Register on February 10, 2004 (69 FR 6251) to seek written comments about the prospective grant program to an entity that will establish a lending program for the construction, refurbishing, and servicing of individually-owned household water well systems in rural areas that are or will be owned by the eligible individuals. Inadvertently, the amount of funding available for fiscal year 2004 was incorrect. In the notice published on February 10, 2004 (69 FR 6251) make the following correction. On page 6251, in the second column, in the seventh paragraph of the “Background” section, change the amount “$500,000” to “1,000,000.”

Dated: February 12, 2004.
Curtis M. Anderson,
Acting Administrator, Rural Utilities Service.

[FR Doc. 04-3531 Filed 2-18-04; 8:45 am]

BILLING CODE 3410-15-P